DEPARTMENT OF THE INTERIOR

Office of Natural Resources Revenue

[Docket No. ONRR-2016-0001; DS63644000 DR2000000.CH7000 189D0102R2]

Withdrawal of Temporary Physical Address Change for General Ledger Team

AGENCY: Office of the Secretary, Office of Natural Resources Revenue, Interior.

ACTION: Notice.

SUMMARY: The Office of Natural Resources Revenue (ONRR) is withdrawing the temporary physical address change published in the Federal Register on April 27, 2016 for courier services and personal deliveries.

DATES: The cancellation takes effect on July 16, 2018.

FOR FURTHER INFORMATION CONTACT: Darrel Redford, Supervisory Accountant, at (303) 231-3085, or email to Darrel.Redford@onrr.gov.

SUPPLEMENTARY INFORMATION: As of July 16, 2018, all courier services and deliveries should be made to ONRR, at the Denver Federal Center, Building 85, Entrance N-1, West 6th Ave. and Kipling St., Denver, Colorado 80225. Visitor parking is available in the north parking lot near Entrance N-1, which is the only entrance on the north side of Building 85. To request service, please use the courtesy phone and call Janet Giron at (303) 231-3088.

Authority: 44 U.S.C. 1505.

Gregory J. Gould,
Director for Office of Natural Resources Revenue.

[FR Doc. 2018-15112 Filed 7-13-18; 8:45 am]

BILLING CODE 4335-30-P